DEPARTMENT OF DEFENSE

Defense Acquisition Regulations System

48 CFR Parts 201, 237, and 246

RIN 0750-AG49

Defense Federal Acquisition Regulation Supplement; Service Contract Surveillance (DFARS Case 2008-D032)

AGENCY: Defense Acquisition Regulations System, Department of Defense (DoD).

ACTION: Final rule.

SUMMARY: DoD is issuing a final rule amending the Defense Federal Acquisition Regulation Supplement (DFARS) to ensure that the requirement for a quality assurance surveillance plan is addressed for each contract with a dollar value above the simplified acquisition threshold, and that contracts for services have appropriate performance management or surveillance plans prepared for the work being performed under the contract.

DATES: Effective Date: April 30, 2010.

FOR FURTHER INFORMATION CONTACT: Ms. Mary Overstreet, Defense Acquisition Regulations System, OUSD(AT&L)DPAP(DARS), 3060 Defense Pentagon, Room 3B855, Washington, DC 20301-3060. Telephone 703-602-0311; facsimile 703-602-0350. Please cite DFARS Case 2008-D032.

SUPPLEMENTARY INFORMATION:

A. Background

The DoD improvement plan for the GAO High Risk Area—Contract Management, includes a commitment from DoD to clarify and/or enhance the DFARS to ensure that appropriate surveillance plans are included in contracts for services. This rule amends the DFARS to ensure that quality assurance surveillance plans are prepared in conjunction with the statement of work or statement of objectives, and included in solicitations and contracts for services to facilitate assessments of contractor performance. Additionally, the requirement for a quality assurance surveillance plan shall be addressed and documented in the contract file for each contract with a dollar value above the simplified acquisition threshold.

DoD is issuing this rule as a final rule because this rule does not have a significant effect beyond the internal operating procedures of DoD and does not have a significant cost or administrative impact on contractors or offerors. Therefore, public comment is not required in accordance with 41 U.S.C. 418b(a).

B. Regulatory Flexibility Act

The Regulatory Flexibility Act does not apply to this rule. This final rule does not constitute a significant DFARS revision within the meaning of FAR 1.501 and public comment is not required in accordance with 41 U.S.C. 418b(a).

C. Paperwork Reduction Act

The Paperwork Reduction Act (Pub. L. 96-511) does not apply because the rule does not impose additional information collection requirements that require the approval of the Office of Management and Budget under 44 U.S.C. 3501, et seq.

List of Subjects in 48 CFR Parts 201, 237, and 246

Government procurement.

Ynette R. Shelkin,
Editor, Defense Acquisition Regulations System.

Therefore, 48 CFR parts 201, 237, and 246 are amended as follows:

1. The authority citation for 48 CFR parts 201, 237, and 246 continues to read as follows:

Authority: 41 U.S.C. 421 and 48 CFR chapter 1.

PART 201—FEDERAL ACQUISITION REGULATIONS SYSTEM

2. Section 201.602-2 is amended by revising paragraph (1) to read as follows:

201.602-2 Responsibilities.

(1) Follow the procedures at PGI 201.602-2 regarding designation, assignment, and responsibilities of a contracting officer's representative (COR).

* * * * *

PART 237—SERVICE CONTRACTING

3. Section 237.172 is added to read as follows:

237.172 Service Contracts Surveillance.

Ensure that quality assurance surveillance plans are prepared in conjunction with the preparation of the statement of work or statement of objectives for solicitations and contracts for services. These plans should be tailored to address the performance risks inherent in the specific contract type and the work effort addressed by the contract. (See FAR Subpart 46.4.) Retain quality assurance surveillance plans in the official contract file. See https://sam.dau.mil, Step Four—Requirements Definition, for examples of quality assurance surveillance plans.

PART 246—QUALITY ASSURANCE

4. Section 246.401 is added to read as follows:

246.401 General.

The requirement for a quality assurance surveillance plan shall be addressed and documented in the contract file for each contract except for those awarded using simplified acquisition procedures. For contracts for services, the contracting officer should prepare a quality assurance surveillance plan to facilitate assessment of contractor performance, see 237.172. For contracts for supplies, the contracting officer should address the need for a quality assurance surveillance plan.

[FR Doc. 2010-9884 Filed 4-29-10; 8:45 am]

BILLING CODE 5001-08-P